DEPARTMENT OF HEALTH AND HUMAN SERVICES

National Institutes of Health

Center for Scientific Review; Amended Notice of Meeting

Notice is hereby given of a change in the meeting of the Biomedical Computing and Health Informatics Study Section, June 14, 2007, 8 a.m. to June 15, 2007, 5 p.m., Bethesda Marriott Suites, 6711 Democracy Boulevard, Bethesda, MD 20817 which was published in the Federal Register on April 24, 2007, 72 FR 20352-20354.

The meeting will be held June 15, 2007, 8 a.m. to 6 p.m. The meeting location remains the same. The meeting is closed to the public.

Dated: May 2, 2007.
Jennifer Spaeth,
Director, Office of Federal Advisory Committee Policy.

[FR Doc. 07-2298 Filed 5-8-07; 8:45 am]

BILLING CODE 4140-01-M